DEPARTMENT OF DEFENSE

Office of the Secretary

[Docket ID: DoD-2009-OS-0160]

Proposed Collection; Comment Request

AGENCY: Office of the Under Secretary of Defense for Acquisition, Technology and Logistics.

ACTION: Notice.

SUMMARY: In compliance with the Paperwork Reduction Act of 1995, the Office of the Under Secretary of Defense for Acquisition, Technology and Logistics announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by June 20, 2016.

ADDRESSES: You may submit comments, identified by docket number and title, by any of the following methods:

• Federal eRulemaking Portal: http://www.regulations.gov. Follow the instructions for submitting comments.

• Mail: ODCMO, Directorate for Oversight and Compliance, 4800 Mark Center Drive, ATTN: Mailbox 24, Alexandria, VA 22350-1700.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Office of the Under Secretary of Defense for Acquisition, Technology and Logistics (OUSD AT&L), Manufacturing and Industrial Based Policy (MIBP), ATTN: Jonathan Wright, Alexandria, VA 22350-6500, or call MIBP, at 571-372-6271.

SUPPLEMENTARY INFORMATION: Title; Associated Form; and OMB Number: Industrial Capabilities Questionnaire; DD Form 2737; OMB Control Number 0704-0377.

Needs and Uses: The information collection requirement is necessary to provide the adequate industrial capability analyses to indicate a diverse, healthy, and competitive industrial base capable of meeting Department demands. Additionally, the information is required to perform the industrial assessments required by Chapter 148, section 2502 of Title 10 of the U.S. Code; and to support development of a defense industrial base information system as required by Section 722 of the 1992 Defense Production Act, as amended, and Section 802 of Executive Order 12919.

Affected Public: Business or other for profit; Not-for-profit institutions.

Annual Burden Hours: 153,600.

Number of Respondents: 12,800.

Responses per Respondent: 1.

Annual Responses: 12,800.

Average Burden per Response: 12 hours.

Frequency: Annually.

Respondents are companies/facilities specifically identified as being of interest to the Department of Defense. Industrial Capabilities Questionnaire DD Form 2737 records pertinent information needed to conduct industrial base analysis for senior DoD leadership to ensure a robust defense industrial base to support the warfighter.

Dated: April 15, 2016.
Aaron Siegel,
Alternate OSD Federal Register, Liaison Officer, Department of Defense.

[FR Doc. 2016-09176 Filed 4-19-16; 8:45 am]

BILLING CODE 5001-06-P